DEPARTMENT OF TRANSPORTATION

Federal Aviation Administration

Public Notice for Waiver of Aeronautical Land-Use Assurance; Rickenbacker International Airport, Columbus, OH

AGENCY: Federal Aviation Administration, DOT.

ACTION: Notice of intent of waiver with respect to land.

SUMMARY: The Federal Aviation Administration (FAA) is considering a proposal to change a portion of the airport from aeronautical use to non-aeronautical use and to authorize the release of 1.795 acres of airport property to reconstruct a rail spur and restore rail access to the Central Campus of the Rickenbacker Global Logistics Park (GLP). This land was acquired by the Columbus Regional Airport Authority through a Quit Claim Deed (dated September 22, 2003), filed of record in Instrument No. 200401210015232, amended and restated by Quit Claim Deed (dated August 26, 2005), filed of record in Instrument No. 200603220053407, and re-recorded in Instrument No. 200603240055176, Recorder's Office, Franklin County, Ohio, from the United States of America, acting by and through the Secretary of the Air Force, under and pursuant to the Defense Base Closure and Realignment Act of 1990, and delegations and regulations promulgated thereunder. There are no impacts to the airport by allowing the airport to dispose of the property. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 31, 2009.

FOR FURTHER INFORMATION CONTACT: Stephanie Swann, Program Manager, Detroit Airports District Office, 11677 South Wayne Road, Suite 107, Romulus, Michigan 48174. Telephone Number: (734)-229-2945/FAX Number: (734)-229-2950. Documents reflecting this FAA action may be reviewed at this same location or at Rickenbacker International Airport, Columbus, Ohio.

SUPPLEMENTARY INFORMATION: Following is a legal description of the property situated in the State of Ohio, County of Franklin, Township of Hamilton, lying in Section 2, Township 3, Range 22, of Congress Lands, being part of the land conveyed to the United States of America, deed of record in Deed Book 1192 Page 231, all records herein of the Recorder's Office, Franklin County, Ohio and being more particularly described as follows:

(Legal Description of Property)

Beginning, at a northwesterly corner of a 241.695 acre (Tract 2) conveyed to Columbus Municipal Airport Authority by deed of record in Instrument Number 200301020000768, being a common corner to said tract owned by United States of America, and a 8.464 acre tract conveyed as (Fourth Tract, Parcel No. 1) to Building Concept, Inc. by deed of record in Official Record 29946 I20, said point being in the line between Section 1 and Section 2;

Thence the following two (2) courses and distances along the line common to said United States of America tract and said 8.464 acre tract:

1. North 86°49′29″ West, a distance of 375.62 feet, to a point;

2. Along a curve to the right, having a central angle of 75°26′08″, a radius of 606.69 feet, an arc length of 798.77 feet, a chord which bears North 49°06′26″ West, a chord distance of 742.31 feet, to a point in the centerline of Canal Road;

Thence North 23°06′04″ East, a distance of 137.88 feet, along the centerline of Canal Road to a point, being a common corner to a 19.042 acre tract conveyed as (Fourth Tract, Parcel No. 2) to Building Concepts, Inc. by deed of record in Official Record 29946 I20;

Thence the following two (2) courses and distances along the line common to said United States of America tract and said 19.042 acre tract:

1. Along a curve to the left, having a central angle of 87°34′08″, a radius of 540.69 feet, an arc length of 826.37 feet, a chord which bears South 43°02′26″ East, a chord distance of 748.26 feet, to a point;

2. South 86°49′29″ East, a distance of 376.62 feet, to a point at the southeasterly corner of said 19.042 acre tract a common corner to said United States of America Tract, being in the line between said Section 1 and 2;

Thence South 04°02′49″ West, a distance of 66.01 feet, along the easterly line of said United States of America Tract and said section Line to the Point of Beginning, containing 1.795 acres, more or less.

The bearings in the above description are based on the bearings of record in Instrument Number 200301020000768, records of the Recorder's Office, Franklin County, Ohio.

Issued in Romulus, Michigan on May 29, 2009.
Matthew J. Thys,
Manager, Detroit Airports District Office, FAA, Great Lakes Region.

[FR Doc. E9-15316 Filed 6-30-09; 8:45 am]

BILLING CODE 4910-13-M